DEPARTMENT OF HEALTH AND HUMAN SERVICES

[Document Identifier OS-0990-New; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at (202) 395-5806.

Proposed Project: Teen Pregnancy Prevention Replication Evaluation Study: Baseline Data Collection—OMB No. OS-0990-NEW—The Office of Adolescent Health.

Abstract

The Office of Adolescent Health (OAH), Office of the Assistant Secretary for Health (OASH), U.S. Department of Health and Human Services (HHS), is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention evaluation activities.

OAH will jointly oversee with ASPE the Teen Pregnancy Prevention Replication Evaluation Study (TPP Replication Study). The TPP Replication Study will be a random assignment evaluation which will determine the extent to which evidence-based program models that have been shown to be effective in an earlier trial, demonstrate effects on adolescent sexual risk behavior and teenage pregnancy when they are replicated in similar and in different settings and for different populations.

The findings from this evaluation will be of interest to the general public, to policy-makers, and to organizations interested in teen pregnancy prevention.

OAH and ASPE are proposing baseline data collection activity as part of the TPP Replication Evaluation. Respondents will be asked to answer carefully selected questions about demographics and risk and protective factors related to teen pregnancy. Information from this data collection will be used to perform meaningful analysis to determine significant program effects.

Respondents: The survey data will be collected through private, self-administered questionnaires completed by study participants, i.e. adolescents assigned to a select school or community teen pregnancy prevention program or a control group. Surveys will be distributed and collected by trained professional staff.

Estimated Annualized Burden Table

Reporting Burden on Study Participants

Teen Pregnancy Prevention Replication Evaluation Study
Instrument | Annual number of respondents | Number of responses per respondent | Average burden hours per response | Total annual burden hours
Baseline instrument | 5,250 | 1 | 0.5 | 2,625

Keith A. Tucker,
Office of the Secretary, Paperwork Reduction Act Clearance Officer.

[FR Doc. 2011-33827 Filed 1-4-12; 8:45 am]

BILLING CODE 4150-30-P